DEPARTMENT OF ENERGY

Federal Energy Regulatory Commission

Combined Notice of Filings #2

Take notice that the Commission received the following electric rate filings:

Docket Numbers: ER12-1695-000.

Applicants: Liberty Electric Power, LLC.

Description: Compliance to be effective 5/3/2012.

Filed Date: 5/2/12.

Accession Number: 20120502-5080.

Comments Due: 5 p.m. ET 5/23/12.

Docket Numbers: ER12-1696-000.

Applicants: Michigan Electric Transmission Company.

Description: Filing of Certificate of Concurrence to be effective 4/27/2012.

Filed Date: 5/2/12.

Accession Number: 20120502-5088.

Comments Due: 5 p.m. ET 5/23/12.

Docket Numbers: ER12-1697-000.

Applicants: Louisville Gas and Electric Company.

Description: Att M LGIA LGIP Rev to be effective 5/3/2012.

Filed Date: 5/2/12.

Accession Number: 20120502-5089.

Comments Due: 5 p.m. ET 5/23/12.

Docket Numbers: ER12-1698-000.

Applicants: New Mexico Renewable Energy Transmission Authority, Power Network New Mexico, LLC.

Description: Application for Authorization to Sell Transmission Rights at Negotiated Rates, Approval of Capacity Allocation, and Request for Waivers of Power Network New Mexico, LLC, et al.

Filed Date: 5/2/12.

Accession Number: 20120502-5101.

Comments Due: 5 p.m. ET 5/23/12.

Docket Numbers: ER12-1699-000.

Applicants: Public Service Company of New Mexico, Power Network New Mexico, LLC, New Mexico Renewable Energy Transmission Authority.

Description: Request for Limited Waiver of Public Service Company of New Mexico, et al.

Filed Date: 5/2/12.

Accession Number: 20120502-5106.

Comments Due: 5 p.m. ET 5/23/12.

Docket Numbers: ER12-1700-000.

Applicants: PJM Interconnection, L.L.C.

Description: Amendments to Schedule 12—Appendix re RTEP approved by PJM Board April 2, 2012 to be effective 7/31/2012.

Filed Date: 5/2/12.

Accession Number: 20120502-5115.

Comments Due: 5 p.m. ET 5/23/12.

Docket Numbers: ER12-1701-000.

Applicants: PacifiCorp.

Description: WAPA NITSA Rev 4 to be effective 5/1/2012.

Filed Date: 5/2/12.

Accession Number: 20120502-5140.

Comments Due: 5 p.m. ET 5/23/12.

Docket Numbers: ER12-1702-000.

Applicants: Sunoco Power Marketing, LLC.

Description: Baseline Tariff Filing to be effective 7/2/2012.

Filed Date: 5/2/12.

Accession Number: 20120502-5142.

Comments Due: 5 p.m. ET 5/23/12.

Docket Numbers: ER12-1703-000.

Applicants: Puget Sound Energy, Inc.

Description: Electric Transmission Reassignment (delete cap) to be effective 4/25/2012.

Filed Date: 5/2/12.

Accession Number: 20120502-5159.

Comments Due: 5 p.m. ET 5/23/12.

Docket Numbers: ER12-1704-000.

Applicants: San Diego Gas & Electric Company.

Description: San Diego Gas & Electric Company's Annual Filing of Revised Costs and Accruals for Post-Employment Benefits Other than Pensions (“PBOP”).

Filed Date: 5/2/12.

Accession Number: 20120502-5160.

Comments Due: 5 p.m. ET 5/23/12.

Docket Numbers: ER12-1705-000.

Applicants: PJM Interconnection, L.L.C.

Description: Revisions to the OATT & OA re the elimination of LMP-G&T to be effective 7/1/2012.

Filed Date: 5/2/12.

Accession Number: 20120502-5165.

Comments Due: 5 p.m. ET 5/23/12.

Docket Numbers: ER12-652-001.

Applicants: EWO Marketing, LLC.

Description: EWOM Cmpl ER12-652 to be effective 11/30/2011.

Filed Date: 5/2/12.

Accession Number: 20120502-5164.

Comments Due: 5 p.m. ET 5/23/12.

Take notice that the Commission received the following electric securities filings:

Docket Numbers: ES11-30-002.

Applicants: System Energy Resources, Inc.

Description: System Energy Resources, Inc. submits request to amend the November 11, 2011 order under ES11-30.

Filed Date: 5/1/12.

Accession Number: 20120501-5458.

Comments Due: 5 p.m. ET 5/22/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 2, 2012.
Nathaniel J. Davis, Sr.,
Deputy Secretary.

[FR Doc. 2012-11168 Filed 5-8-12; 8:45 am]

BILLING CODE 6717-01-P